DEPARTMENT OF VETERANS AFFAIRS

[OMB Control No. 2900-0674]

Proposed Information Collection (Clarification of a Notice of Disagreement) Activity Comment Request

AGENCY: Board of Veterans' Appeals, Department of Veterans Affairs.

ACTION: Notice.

SUMMARY: The Board of Veterans' Appeals (BVA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on the information needed to clarify actions taken by the agency of original jurisdiction regarding a claimant's disagreement with his or her rating decision.

DATES: Written comments and recommendations on the proposed collection of information should be received on or before April 30, 2012.

ADDRESSES: Submit written comments on the collection of information through Federal Docket Management System (FDMS) at www.Regulations.gov or to Sue Hamlin, Board of Veterans' Appeals (01C), Department of Veterans Affairs, 810 Vermont Avenue NW., Washington, DC 20420 or email sue.hamlin@va.gov. Please refer to “OMB Control No. 2900-0674” in any correspondence. During the comment period, comments may be viewed online through FDMS.

FOR FURTHER INFORMATION CONTACT: Sue Hamlin at (202) 632-5100 or fax (202) 632-5841.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, BVA invites comments on: (1) Whether the proposed collection of information is necessary for the proper performance of BVA's functions, including whether the information will have practical utility; (2) the accuracy of BVA's estimate of the burden of the proposed collection of information; (3) ways to enhance the quality, utility, and clarity of the information to be collected; and (4) ways to minimize the burden of the collection of information on respondents, including through the use of automated collection techniques or the use of other forms of information technology.

Title: Clarification of Notice of Disagreement.

OMB Control Number: 2900-0674.

Type of Review: Extension of a currently approved collection.

Abstract: A Notice of Disagreement (NOD) is a written communication from a claimant or his or her representative to express disagreement or dissatisfaction with the result of an adjudicative determination by the agency of original jurisdiction (AOJ). The data collected will be used by the AOJ to reexamine the issues in dispute and to determine if additional review or development is warranted.

Affected Public: Individuals or households.

Estimated Total Annual Burden: 135,505.

Estimated Average Burden per Respondent: 1 hour.

Frequency of Response: On occasion.

Estimated Total Number of Respondents: 125,505.

Dated: February 22, 2012.
By direction of the Secretary.
Denise McLamb,
Program Analyst, Enterprise Records Service.

[FR Doc. 2012-4587 Filed 2-27-12; 8:45 am]

BILLING CODE 8320-01-P